COUNCIL OF THE INSPECTORS GENERAL ON INTEGRITY AND EFFICIENCY

Privacy Act of 1974; System of Records

AGENCY: Council of the Inspectors General on Integrity and Efficiency.

ACTION: Notice of a new system of records.

SUMMARY: The Council of the Inspectors General on Integrity and Efficiency (CIGIE) proposes to establish a system of records that is subject to the Privacy Act of 1974. Specifically, the Integrity Committee Management System (ICMS) will enable CIGIE to track complaints made to CIGIE's Integrity Committee (IC) and information related thereto. CIGIE also proposes to establish routine uses for the proposed system of records. In this notice, CIGIE provides the required information on the system of records and routine uses for such system.

DATES: This action will be effective without further notice on December 6, 2017 unless comments are received that would result in a contrary determination.

ADDRESSES: You may submit comments by any of the following methods:

• Federal eRulemaking Portal: http://www.regulations.gov. Follow the instructions for submitting comments.

• Email: comments@CIGIE.gov.

• Fax: (202) 254-0162.

• Mail: Atticus J. Reaser, General Counsel, Council of the Inspectors General on Integrity and Efficiency, 1717 H Street NW., Suite 825, Washington, DC 20006.

• Hand Delivery/Courier: Atticus J. Reaser, General Counsel, Council of the Inspectors General on Integrity and Efficiency, 1717 H Street NW., Suite 825, Washington, DC 20006.

FOR FURTHER INFORMATION CONTACT: Atticus J. Reaser, General Counsel, CIGIE, (202) 292-2600.

SUPPLEMENTARY INFORMATION: In 2008, Congress established CIGIE as an independent entity within the executive branch in order to address integrity, economy, and effectiveness issues that transcend individual Government agencies; and increase the professionalism and effectiveness of personnel by developing policies, standards, and approaches to aid in the establishment of a well-trained and highly skilled workforce in the offices of the Inspector General (OIG). CIGIE's membership is comprised of all Inspectors General whose offices are established under the Inspector General Act of 1978, as amended, 5 U.S.C. app (IG Act), as well as the Controller of the Office of Federal Financial Management, a designated official of the Federal Bureau of Investigation (FBI), the Director of the Office of Government Ethics, the Special Counsel of the Office of Special Counsel, the Deputy Director of the Office of Personnel Management, the Deputy Director for Management of the Office of Management and Budget (OMB), and the Inspectors General of the Office of the Director of National Intelligence, Central Intelligence Agency, Library of Congress, Capitol Police, Government Publishing Office, Government Accountability Office, and the Architect of the Capitol. The Deputy Director for Management of OMB serves as the Executive Chairperson of CIGIE.

The IG Act established the IC in order to receive, review, and refer for investigation allegations of wrongdoing that are made against Inspectors General and certain staff members of the various OIGs. With the enactment of the Inspector General Empowerment Act of 2016 on December 16, 2016, the IG Act was amended to require the Chairperson of CIGIE to maintain the records of the IC. Previously, such records were required by the IG Act to be maintained by the official of the FBI serving in CIGIE. The new system of records described in this notice, the ICMS (CIGIE-4), will enable CIGIE to track complaints made to the IC and information related thereto. In accordance with 5 U.S.C. 552a(r), CIGIE has provided a report of this new system of records to OMB and to Congress. The new system of records reads as follows:

SYSTEM NAME AND NUMBER

Integrity Committee Management System (ICMS)—CIGIE-4.

SECURITY CLASSIFICATION:

The vast majority of the information in the system is Controlled Unclassified Information. However, there is some classified information as well.

SYSTEM LOCATIONS:

The principal location of paper records contained within the ICMS is the headquarters of the Council of the Inspectors General on Integrity and Efficiency (CIGIE), 1717 H Street NW., Suite 825, Washington, DC 20006. Records maintained in electronic form are principally located in contractor-hosted data centers in the United States. Records within the system may also be temporarily located at a Federal Bureau of Investigation (FBI) location in the system location specified in the current System of Record Notice associated with The FBI Central Records System, Justice/FBI-002. Contact the System Manager identified below for additional information.

SYSTEM MANAGER(S):

Executive Director, Council of the Inspectors General on Integrity and Efficiency, 1717 H Street NW., Suite 825, Washington, DC 20006.

AUTHORITY FOR MAINTENANCE OF THE SYSTEM:

Section 11 of the Inspector General Act of 1978, as amended, 5 U.S.C. app (IG Act); Section 3 of the Inspector General Empowerment Act of 2016, Public Law 114-317, 130 Stat. 1595 (IGEA); 5 U.S.C. 301; 44 U.S.C. 3101.

PURPOSE(S) OF THE SYSTEM:

CIGIE maintains this system of records in order to carry out its responsibilities pursuant to the IG Act, as further amended by section 3 of the IGEA. Pursuant to section 11(d)(1) of the IG Act, CIGIE is statutorily directed to establish the Integrity Committee (IC), which shall receive, review, refer for investigation, or otherwise act on allegations of wrongdoing that are made against Inspectors General and certain staff members of various Offices of Inspector General (OIGs), as well as the Special Counsel and Deputy Special Counsel, and make appropriate recommendations regarding confirmed or verified allegations. Furthermore, pursuant to section 11(d)(13) of the IG Act, as further amended by the IGEA, the Chairperson of CIGIE is statutorily obligated to maintain the records of the IC. Accordingly, the records in this system are used in the course of responding to complaints made to or referred to the IC, investigating individuals suspected of wrongdoing falling within the authority of the IC, referring matters to the Department of Justice (DOJ) or the Office of Special Counsel (OSC), as appropriate, and making recommendations to the President or head of the relevant agency, as appropriate.

CATEGORIES OF INDIVIDUALS COVERED BY THE SYSTEM:

In connection with its investigative and other duties, the IC maintains records on the following categories of individuals:

A. Individuals who relate in any manner to official IC matters, including, but not limited to, individuals who are or have been the subject, complainant, victim, witness, or close relative or associate of a subject, complainant, victim, or witness in a complaint made or referred to the IC. Such individuals include, but are not necessarily limited to, Inspectors General, the Special Counsel, the Deputy Special Counsel, and those staff members of the OIGs specified in section 11(d)(4)(B) of the IG Act, as well as other individuals identified in such complaints.

B. Individuals identified in reports of investigation and other materials received from the DOJ or the OSC pursuant to section 11(d)(7)(E) of the IG Act or received from other entities that submit materials to the IC, such as Inspectors General who conduct investigations on behalf of the IC.

C. Individuals identified in correspondence or records that are related to the general administration of the IC.

CATEGORIES OF RECORDS IN THE SYSTEM:

Information relating to complaints and investigations, including:

A. Letters, memoranda, and other documents describing complaints or alleged criminal, civil, or administrative misconduct.

B. Investigative files, which include reports of investigations and related exhibits, statements, affidavits, and records obtained during investigations.

C. General administrative materials, including minutes, reports, case-tracking logs, and Congressional and other correspondence.

D. Records relating to referrals and recommendations to and from external entities, including, but not limited to the DOJ, the OSC, OIGs, and others.

RECORD SOURCE CATEGORIES:

The subjects of investigations and inquiries; individuals and entities with which the subjects of investigations and inquiries are associated; Federal, state, local, and foreign law enforcement and non-law enforcement agencies and entities; private citizens; witnesses; complainants; and public and/or commercially available source materials.

ROUTINE USES OF RECORDS MAINTAINED IN THE SYSTEM, INCLUDING CATEGORIES OF USERS AND THE PURPOSES OF SUCH USES:

In addition to those disclosures generally permitted under the Privacy Act (5 U.S.C. 552a(b)), the records or information contained in this system of records may specifically be disclosed outside of CIGIE as a routine use pursuant to the Privacy Act (5 U.S.C. 552a(b)(3)) as follows:

A. To a Member of Congress in response to an inquiry from that Member made at the request of the individual. In such cases, however, the Member's right to a record is no greater than that of the individual.

B. If the disclosure of certain records to the DOJ is relevant and necessary to litigation and is compatible with the purpose for which the records were collected, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation and is compatible with the purpose for which the records were collected, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity, including, but not limited to, the DOJ or the OSC pursuant to section 11(d)(5) of the IG Act, as further amended by the IGEA.

E. To officials and employees of any Federal agency to the extent the record contains information that is relevant to that agency's decision concerning the hiring, appointment, or retention of an employee; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE (including, but not limited to, representatives of the DOJ and the OSC reviewing complaints made to the IC pursuant to section 11(d)(5) of the IG Act, as further amended by the IGEA, the Chief of the Public Integrity Section of the Criminal Division of the DOJ, or his designee, who serves as legal advisor to the IC, and officials at the FBI involved with the maintenance of IC-related records) and who have a need to access the information in the performance of their duties or activities for CIGIE.

H. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

I. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

J. To Federal agencies and independent certified public accounting firms that have a need for the information in order to audit the financial statements of CIGIE.

K. To an organization or an individual in the public or private sector where there is reason to believe the recipient is or could become the target of a particular criminal activity or conspiracy, or to the extent the information is relevant to the protection or life or property.

L. To officials, members, and employees of CIGIE and members of the IC who have need of the information in the performance of their duties.

M. To any individual or entity when necessary to elicit information that will assist an IC investigation.

N. To the President or the head of a designated Federal entity, as appropriate, for resolution after assessment and final disposition of reports by the IC to the extent required to comply with section 11(d) of the IG Act or as otherwise required by law.

O. To Members of Congress and appropriate congressional committees of jurisdiction to the extent required to comply with section 11(d) of the IG Act or as otherwise required by law.

POLICIES AND PRACTICES FOR STORAGE OF RECORDS:

Information in this system is maintained in paper and/or electronic form.

POLICIES AND PRACTICES FOR RETRIEVAL OF RECORDS:

These records are retrieved by the name or other programmatic identifier assigned to the individual on whom they are maintained.

POLICIES AND PRACTICES FOR RETENTION AND DISPOSAL OF RECORDS:

The information is retained and disposed of in accordance with the General Records Schedule or the CIGIE records schedule applicable to the record and/or as otherwise required by the Federal Records Act and implementing regulations. Destruction is by shredding or electronic deletion.

ADMINISTRATIVE, TECHNICAL, AND PHYSICAL SAFEGUARDS:

Paper records are located in locked file storage areas or in specified areas to which only authorized personnel have access. Electronic records are protected from unauthorized access through password identification procedures, limited access, firewalls, and other system-based protection methods.

RECORD ACCESS PROCEDURES:

Part of this system is exempt from notification and access requirements pursuant to 5 U.S.C. 552a(j)(2), (k)(1), and (k)(2). To the extent that this system is not subject to exemption, it is subject to notification and access requirements. Individuals seeking notification and access to any record contained in this system of records, or seeking to contest its content, may inquire in writing to the System Manager listed above. CIGIE has published a rule, entitled “Privacy Act Regulations,” to establish its procedures relating to access, maintenance, disclosure, and amendment of records which are in a CIGIE system of records under the Privacy Act, promulgated at 5 CFR part 9801.

CONTESTING RECORDS PROCEDURES:

See “Record Access Procedures” above.

NOTIFICATION PROCEDURES:

See “Record Access Procedures” above.

EXEMPTIONS PROMULGATED FOR THE SYSTEM:

CIGIE has exempted this system of records from the following provisions of the Privacy Act pursuant to the general authority in 5 U.S.C. 552a(j)(2): 5 U.S.C. 552a(c)(3) and (c)(4); (d); (e)(1), (e)(2), (e)(3), (e)(4)(G)-(H), (e)(5), and (e)(8); (f); and (g). Additionally, CIGIE has exempted this system from the following provisions of the Privacy Act pursuant to the general authority in 5 U.S.C. 552a(k)(1) and (k)(2): 5 U.S.C. 552a(c)(3); (d); (e)(1) and (e)(4)(G)-(H); and (f). See 5 CFR part 9801.

Dated: October 23, 2017.
Michael E. Horowitz,
Chairperson of the Council of the Inspectors General on Integrity and Efficiency.

[FR Doc. 2017-24038 Filed 11-3-17; 8:45 am]

BILLING CODE 6820-C9-P